DEPARTMENT OF THE INTERIOR

Bureau of Land Management

[20X.LLAK940000 L141000000.HM0000]

Notice of Identification of Federal Land in Alaska Available for Allotment Selection Under the Alaska Native Veteran Program of 2019

AGENCY: Bureau of Land Management, Interior.

ACTION: Notice of identified lands.

SUMMARY: In accordance with the John D. Dingell, Jr., Conservation, Management, and Recreation Act of 2019 (Dingell Act), the Bureau of Land Management (BLM) has identified Federal lands that are available for allotment selection by eligible individuals. By this notice, the BLM is announcing the availability of maps of the lands available for selection by eligible individuals.

ADDRESSES: An interactive map of the land available for selection by eligible individuals can be accessed at https://arcg.is/1HTrrO.

FOR FURTHER INFORMATION CONTACT: Paul Krabacher, Alaska Native Veteran Program of 2019 Project Manager by telephone at 907-271-1310 or by mail at 222 West 7th Avenue #13, Anchorage, Alaska 99513. Persons who use a telecommunications device for the deaf (TDD) may call the Federal Relay Service (FRS) at 1-800-877-8339 to contact Mr. Krabacher during normal business hours. The FRS is available 24 hours a day, 7 days a week, to leave a message or question. You will receive a reply during normal business hours.

SUPPLEMENTARY INFORMATION: The Dingell Act (Pub. L. 116-9, Sec. 1119) requires the BLM to identify Federal lands in the State of Alaska that are vacant, unappropriated, and unreserved, to make available for allotment selection by eligible individuals under the Dingell Act. In accordance with the Dingell Act, the BLM is providing an interactive map of the available Federal lands. An interactive map of available Federal lands can be found at the web address in the ADDRESSES section. Lands available for selection will change on this real-time map as more lands become available and as allotments are applied for over the course of the program.

(Authority: Public Law 116-9)

Ted A. Murphy,
Acting State Director, Alaska.

[FR Doc. 2020-13861 Filed 6-26-20; 8:45 am]

BILLING CODE 4310-JA-P